DEPARTMENT OF ENERGY

Notice of Cancellation of the Global Nuclear Energy Partnership (GNEP) Programmatic Environmental Impact Statement (PEIS)

AGENCY: Office of Nuclear Energy, U.S. Department of Energy.

ACTION: Notice of cancellation of Environmental Impact Statement process.

SUMMARY: The U.S. Department of Energy (DOE or Department) has decided to cancel the preparation of the Global Nuclear Energy Partnership Programmatic Environmental Impact Statement (DOE/EIS-0396). This notice briefly describes the history of the GNEP PEIS.

FOR FURTHER INFORMATION CONTACT: For further information or copies of the Draft GNEP PEIS, please contact Dr. Rajendra Sharma, National Environmental Policy Act (NEPA) Compliance Officer, Office of Nuclear Energy (NE-43), U.S. Department of Energy, 19901 Germantown Road, Germantown, MD 20874, Telephone: 301-903-2899 or electronic mail: rajendra.sharma@nuclear.energy.gov.

For general information regarding the DOE NEPA process contact: Ms. Carol M. Borgstrom, Director, Office of NEPA Policy and Compliance (GC-20), U.S. Department of Energy, 1000 Independence Ave., SW., Washington, DC 20585. Telephone: 202-586-4600, or leave a message at 1-800-472-2756. Additional information regarding DOE NEPA activities and access to many of DOE's NEPA documents are available on the DOE Web site at http://www.gc.energy.gov/NEPA.

SUPPLEMENTARY INFORMATION:

Background

On March 22, 2006, DOE published an Advance Notice of Intent to Prepare an Environmental Impact Statement for the Global Nuclear Energy Partnership Technology Demonstration Program (71 FR 14505), soliciting comments on the proposed scope, alternatives and environmental issues to be analyzed. DOE stated that the technology demonstration program would demonstrate technologies needed to implement a closed fuel cycle that enables recycling and consumption of spent nuclear fuel in a proliferation-resistant manner.

The comments that DOE received included suggestions to prepare a programmatic environmental impact statement addressing the entire GNEP Program. DOE agreed and on January 4, 2007, published its Notice of Intent to prepare the Global Nuclear Energy Partnership Programmatic Environmental Impact Statement (GNEP PEIS) in the Federal Register (72 FR 331). The public scoping period for the GNEP PEIS was later extended (72 FR 15871, April 3, 2007) and concluded on June 4, 2007. DOE considered the scoping comments in preparing the Draft GNEP PEIS. The Draft GNEP PEIS analyzed the potential environmental impacts of expanding nuclear power in the U.S. using either the existing fuel cycle or various alternative closed and open fuel cycles. DOE's stated preference in the Draft was to close the fuel cycle, although it did not identify a specific preferred alternative.

Publication of the Notice of Availability of the Draft GNEP PEIS (73 FR 61858, October 17, 2008; also see 73 FR 61845, October 17, 2008) commenced a 60-day public comment period and provided a schedule for 13 public hearings to receive comments on the Draft GNEP PEIS. Consistent with the announced schedule, DOE conducted public hearings on the Draft GNEP PEIS during November and December 2008. In response to the public requests, on December 10, 2008, DOE announced an extension of the public comment period by 90 days, i.e., through March 16, 2009 (73 FR 75087). On December 24, 2008, DOE announced (73 FR 79073) an additional public hearing which was held on January 12, 2009, in the town of Pahrump in Nye County, NV. At the close of the public comment period on March 16, 2009, DOE had received more than 14,500 comment documents on the Draft GNEP PEIS.

Via this notice, DOE announces that it has decided to cancel the GNEP PEIS because it is no longer pursuing domestic commercial reprocessing, which was the primary focus of the prior Administration's domestic GNEP program. The Omnibus Appropriations Act, 2009, provides $145 million for the continuation of research and development (R&D) on proliferation-resistant fuel cycles and waste management strategies. As described in the President's Fiscal Year 2010 budget request, the Department's fuel cycle R&D's focus is on “long-term, science-based R&D of technologies with the potential to produce beneficial changes to the manner in which the nuclear fuel cycle and nuclear waste is managed.”

Issued in Washington, DC, on June 23, 2009.
R. Shane Johnson,
Acting Assistant Secretary, Office of Nuclear Energy.

[FR Doc. E9-15328 Filed 6-26-09; 8:45 am]

BILLING CODE 6450-01-P